DEPARTMENT OF ENERGY

Federal Energy Regulatory Commission

Combined Notice of Filings # 2

Take notice that the Commission received the following electric rate filings:

Docket Numbers: ER14-778-001.

Applicants: PacifiCorp.

Description: WECC Unscheduled Flow Mitigation Plan Amended Filing to be effective 1/1/2014.

Filed Date: 3/19/14.

Accession Number: 20140319-5098.

Comments Due: 5 p.m. ET 4/9/14.

Docket Numbers: ER14-1053-000; ER14-1054-000.

Applicants: Plum Point Energy Associates, LLC, Plum Point Services Company, LLC.

Description: Supplement to January 17, 2014 Plum Point Energy Associates, LLC and Plum Point Services Company, LLC tariff filing and Notice of Non-Material Change in Status.

Filed Date: 3/18/14.

Accession Number: 20140318-5058.

Comments Due: 5 p.m. ET 3/31/14.

Docket Numbers: ER14-1140-001.

Applicants: Inspire Energy Holdings, LLC.

Description: Inspire Energy Holdings, LLC FERC Tariff Filing to be effective 3/19/2014.

Filed Date: 3/19/14.

Accession Number: 20140319-5138.

Comments Due: 5 p.m. ET 4/9/14.

Docket Numbers: ER14-1322-000.

Applicants: Corinth Energy, LLC.

Description: Supplement to February 14, 2014 Corinth Energy, LLC tariff filing.

Filed Date: 3/18/14.

Accession Number: 20140318-5234.

Comments Due: 5 p.m. ET 3/28/14.

Docket Numbers: ER14-1532-000.

Applicants: Arizona Public Service Company.

Description: Administrative Removal of Rate Schedule No. 183 from Master Tariff Vol 2 to be effective 10/1/2013.

Filed Date: 3/19/14.

Accession Number: 20140319-5099.

Comments Due: 5 p.m. ET 4/9/14.

Docket Numbers: ER14-1533-000.

Applicants: Arizona Public Service Company.

Description: Administrative Re-Filing of Rate Schedule No. 183 to Master Tariff Rate Schedule to be effective 3/19/2014.

Filed Date: 3/19/14.

Accession Number: 20140319-5103.

Comments Due: 5 p.m. ET 4/9/14.

Docket Numbers: ER14-1534-000.

Applicants: Southwest Power Pool, Inc.

Description: 2826 Kansas Power Pool & Sunflower Meter Agent Agreement to be effective 3/1/2014.

Filed Date: 3/19/14.

Accession Number: 20140319-5110.

Comments Due: 5 p.m. ET 4/9/14.

Docket Numbers: ER14-1535-000.

Applicants: Southwest Power Pool, Inc.

Description: 2841 Smoky Hills Wind Project II and Westar Meter Agent Agr to be effective 3/1/2014.

Filed Date: 3/19/14.

Accession Number: 20140319-5111.

Comments Due: 5 p.m. ET 4/9/14.

Docket Numbers: ER14-1536-000.

Applicants: AmerenEnergy Medina Valley Cogen, L.L.C.

Description: Filing of a Notice of Cancellation to be effective 2/1/2014.

Filed Date: 3/19/14.

Accession Number: 20140319-5135.

Comments Due: 5 p.m. ET 4/9/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 19, 2014.
Nathaniel J. Davis, Sr.,
Deputy Secretary.

[FR Doc. 2014-06689 Filed 3-25-14; 8:45 am]

BILLING CODE 6717-01-P